DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

National Survey of Characteristics and Funding of School Mental Health Services—New

SAMHSA's Center for Mental Health Services will sponsor this national study of the mental health services provided in U.S. public schools. A substantial proportion of public schools provide some level of mental health screening, prevention, and treatment services to their students. However, no national-level data are available on these services. The study is designed to document the types of mental health problems encountered in schools, the mental health services provided, the types and qualifications of staff providing the services, the arrangements for delivery of services, and the funding of those services. The study will examine the prevalence of these mental health resources and their distribution across schools in the nation as they vary by grade level, size, locale, and the student populations served.

The survey will be conducted as a self-administered mail survey (with telephone followup) of a nationally representative sample of 2,000 public elementary, middle and secondary schools. The districts associated with the sampled schools will be asked to answer questions about funding sources, budgets, and issues related to funding. The results of the study will be available in the summer of 2003. Response burden for the survey is summarized in the following table.

Questionnaire | Number of respondents | Responses/ respondent | Burden/response (hrs.) | Total burden hours
Telephone call to school district | 1,200 | 1 | .17 | 204
School district | 1,200 | 1 | .5 | 600
School | 2,000 | 1 | 1.0 | 2,000
Total | 3,200 |  |  | 2,804

Written comments and recommendations concerning the proposed information collection should be sent within 30 days of this notice to: Allison Herron Eydt, Human Resources and Housing Branch, Office of Management and Budget, New Executive Office Building, Room 10235, Washington, DC 20503.

Dated: July 23, 2002.
Richard Kopanda,
Executive Officer, SAMHSA.

[FR Doc. 02-19166 Filed 7-29-02; 8:45 am]

BILLING CODE 4162-20-P